DEPARTMENT OF DEFENSE

Department of the Army

Announcement of Intent to Grant an Exclusive License for U.S. Army-Owned Patents and Patent Application

AGENCY: Picatinny Arsenal, New Jersey, Department of the Army, DoD.

ACTION: Notice.

SUMMARY: The Department of the Army announces, that unless there is objection, in fifteen days it will enter into an agreement that would grant Executive license to AZTECH, a non-profit New York corporation with a principal place of business at 2495 Main Street, Suite 418, Buffalo, NY 14214-2152, for U.S. Patent numbers 5,523,742 entitled Motion Sensor, 5,610,590 entitled Motion Sensor, 5,875,309 entitled Personal Motion Event Monitor, and for a United States patent application numbered 09/553,177 entitled Personal Event Monitor with Linear Omnidirectional Response.

FOR FURTHER INFORMATION CONTACT: Mr. John Moran, Chief, Intellectual Property Law Division, AMSTA-AR-GCL, U.S. Army TACOM-ARDEC, Picatinny Arsenal, NJ 07806-5000, Telephone (973) 724-6590, e-mail: jfmoran@pica.army.mil

SUPPLEMENTARY INFORMATION: Written objections must be filed within 15 days from publication date of this notice in the Federal Register.

Gregory D. Showalter,
Army Federal Register Liaison Officer.

[FR Doc. 01-4247 Filed 2-20-01; 8:45 am]

BILLING CODE 3710-08-M